DEPARTMENT OF JUSTICE

Notice of Lodging of Consent Decree Under the Comprehensive Environmental Response, Compensation, and Liability Act (CERCLA)

Notice is hereby given that on September 22, 2011, a proposed Consent Decree in United States and Coeur d'Alene Tribe v. Alice Consolidated Mines, Inc., et al., Civ. No. 11-00446-REB, was lodged with the United States District Court for the District of Idaho.

Concurrently with the proposed Consent Decree, the United States and the Coeur d'Alene Tribe filed a complaint naming seven defendants: Alice Consolidated Mines, Inc.; Hypotheek Mining and Milling Company; Callahan Consolidated Mines, Inc.; Constitution Mining Company; Golconda Mining Corp.; Highland Surprise Mining Company; and Nevada-Stewart Mining Company. The Complaint alleges that the Defendants are liable pursuant to Section 107(a) of CERCLA for response costs incurred and to be incurred by the United States and for natural resources damages in connection with releases of hazardous substances at or from Operable Unit 3 of the Bunker Hill Mining and Metallurgical Complex Superfund Site (“Site”) in northern Idaho. The Coeur d'Alene Tribe is a co-trustee of injured natural resources and a party to the proposed Consent Decree. The Consent Decree requires payments totaling $208,500, based on the defendant's financial resources. The Consent Decree also requires, among other things, that Defendants assign their interests in insurance policies to a trust, established for the benefit of EPA and the natural resource trustees, and pay two percent of net smelter returns generated from any future mining activities. The Consent Decree grants the Defendants a covenant not to sue for response costs, as well as natural resource damages, in connection with the Site.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States and Coeur d'Alene Tribe v. Alice Consolidated Mines, Inc., et al. Civ. No. 11-00446-REB, and D.J. Ref. Nos. 90-11-3-128/13 and 90-11-3-128/14.

During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $11.00 (Consent Decree without attachments) or $211.25 (Consent Decree with attachments) (25 cents per page reproduction cost) payable to the United States Treasury or, if by e-mail or fax, please forward a check in that amount to the Consent Decree Library at the stated address.

Robert E. Maher, Jr.,
Assistant Section Chief, Environmental Enforcement Section, Environment and Natural Resources Division.

[FR Doc. 2011-25036 Filed 9-28-11; 8:45 am]

BILLING CODE 4410-15-P